DEPARTMENT OF COMMERCE

Foreign-Trade Zones Board

[Order No. 1377]

Termination of Foreign-Trade Subzone 49A Edison, NJ

Pursuant to the authority granted in the Foreign-Trade Zones Act of June 18, 1934, as amended (19 U.S.C. 81a-81u), and the Foreign-Trade Zones Board Regulations (15 CFR part 400), the Foreign-Trade Zones Board has adopted the following order:

Whereas, on February 6, 1984, the Foreign-Trade Zones Board issued a grant of authority to the Port Authority of New York & New Jersey (the Port), authorizing the establishment of Foreign-Trade Subzone 49A at the Ford Motor Company plant in Edison, New Jersey (Board Order 243, 49 FR 5981, 2/16/84);

Whereas, the Port advised the Board on July 28, 2004 (FTZ Docket 50-2004), that zone procedures were no longer needed at the facility and requested voluntary termination of Subzone 49A;

Whereas, the request has been reviewed by the FTZ Staff and Customs officials, and approval has been recommended;

Now, therefore, the Foreign-Trade Zones Board terminates the subzone status of Subzone 49A, effective this date.

Signed at Washington, DC, this 23rd day of February, 2005.
Joseph A. Spetrini,
Acting Assistant Secretary of Commerce for Import Administration, Alternate Chairman, Foreign-Trade Zones Board.
Attest:
Dennis Puccinelli,
Executive Secretary.

[FR Doc. E5-929 Filed 3-4-05; 8:45 am]

BILLING CODE 3510-DS-P